DEPARTMENT OF THE INTERIOR

Bureau of Indian Affairs

[156A2100DD/AAKC001030/A0A501010.999900 253G]

Renewal of Agency Information Collection for Bureau of Indian Education Collection Activities; Request for Comments

AGENCY: Bureau of Indian Affairs, Interior.

ACTION: Notice of request for comments.

SUMMARY: In compliance with the Paperwork Reduction Act of 1995, the Bureau of Indian Affairs (BIA) is seeking comments on the renewal of Office of Management and Budget (OMB) approval for the collection of information for the Tribal Colleges and Universities Application for Grants, authorized by OMB Control Number 1076-0018, and the Tribal Colleges and Universities Annual Report Form, authorized by OMB Control Number 1076-0105. Both of these information collections expire November 30, 2015.

DATES: Submit comments on or before October 23, 2015.

ADDRESSES: You may submit comments on the information collection to Juanita Mendoza, Acting Chief of Staff, Bureau of Indian Education, 1849 C Street NW., MIB—Mail Stop 4657, Washington, DC 20240; email Juanita.Mendoza@bie.edu.

FOR FURTHER INFORMATION CONTACT: Juanita Mendoza, (202) 208-3559.

SUPPLEMENTARY INFORMATION:

I. Abstract

Each tribally-controlled college or university requesting financial assistance under the Tribally Controlled Colleges and Universities Assistance Act of 1978, as amended, 25 U.S.C. 1801 et seq. (Act) is required by 25 U.S.C. 1807(a) and 25 CFR 41.8 to provide information for the purpose of securing a grant. Similarly, each tribally-controlled college or university that receives financial assistance under the Act is required by 25 U.S.C. 1808(c)(1) and 25 CFR 41.9 to provide a report on the use of funds received.

II. Request for Comments

The BIA requests your comments on these collections concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents, such as through the use of automated collection techniques or other forms of information technology.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0018.

Title: Tribal Colleges and Universities Application for Grants Form.

Brief Description of Collection: Collection of the information is mandatory under the Tribally Controlled Colleges and Universities Assistance Act of 1978, as amended, 25 U.S.C. 1801 et seq., for the respondent to receive or maintain a benefit.

Type of Review: Extension without change of a currently approved collection.

Respondents: Tribal college and university administrators.

Number of Respondents: 26 per year, on average.

Total Number of Responses: 26 per year, on average.

Frequency of Response: Annually.

Estimated Time per Response: 1 hour.

Estimated Total Annual Hour Burden: 26 hours.

Estimated Total Annual Non-Hour Dollar Cost: $0.

* * * * *

OMB Control Number: 1076-0105.

Title: Tribal Colleges and Universities Annual Report Form.

Brief Description of Collection: Collection of the information is mandatory under the Tribally Controlled Colleges and Universities Assistance Act of 1978, as amended, 25 U.S.C. 1801 et seq., for the respondent to receive or maintain a benefit.

Type of Review: Extension without change of a currently approved collection.

Respondents: Tribal college and university administrators.

Number of Respondents: 26 per year, on average.

Total Number of Responses: 26 per year, on average.

Frequency of Response: Annually.

Estimated Time per Response: 3 hours.

Estimated Total Annual Hour Burden: 78 hours.

Estimated Total Annual Non-Hour Dollar Cost: $0.

Elizabeth K. Appel,
Director, Office of Regulatory Affairs and Collaborative Action—Indian Affairs.

[FR Doc. 2015-20817 Filed 8-21-15; 8:45 am]

BILLING CODE 4337-15-P